DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action[s]

On December 4, 2024, OFAC determined that the property and interests in property subject to U.S. jurisdiction of the following persons are blocked under the relevant sanctions authorities listed below.

Individuals

1. CHIRKINYAN, Elena (a.k.a. CHIRKINYAN, Yelena Norayrovna; a.k.a. “Elle”), London, United Kingdom; DOB 27 Aug 1988; POB Azerbaijan; nationality Russia; Gender Female; Secondary sanctions risk: See Section 11 of Executive Order 14024.; Digital Currency Address—USDT TDdbRFoBTEmE3qiR69Y6rKRSG1hoF65QaE; Passport 724664629 (Russia) (individual) [RUSSIA-EO14024].

Designated pursuant to section 1(a)(i) of Executive Order 14024 of April 15, 2021, “Blocking Property With Respect To Specified Harmful Foreign Activities of the Government of the Russian Federation” 86 FR 20249, 3 CFR, 2021 Comp., p. 542 (Apr. 15, 2021) (E.O. 14024) as amended by Executive Order 14114 of December 22, 2023, “Taking Additional Steps With Respect to the Russian Federation's Harmful Activities,” 88 FR 89271, 3 CFR, 2023 Comp., p. 721 (Dec. 22, 2023) (E.O. 14114), for operating or having operated in the financial services sector of the Russian Federation economy.

2. BRADENS, Andrejs (a.k.a. CARENOKS, Andrejs), 55 Riding House Street, Ground Floor, London W1W7EE, United Kingdom; DOB 09 Sep 1962; nationality Latvia; Gender Male; Secondary sanctions risk: See Section 11 of Executive Order 14024.; Passport LV6327440 (Latvia) (individual) [RUSSIA-EO14024].

Designated pursuant to section 1(a)(i) of E.O. 14024 for operating or having operated in the financial services sector of the Russian Federation economy.

3. ROSSI, George (a.k.a. MAKSAKOV, Yury; a.k.a. ROSSI, Georgy; a.k.a. ROSSI, Heorhii), London, United Kingdom; DOB 29 Dec 1974; POB Gorky, Russia; nationality Ukraine; Gender Male; Secondary sanctions risk: See Section 11 of Executive Order 14024.; Passport FC072214 (Ukraine); Driver's License No. BXP262787 (Ukraine); National ID No. 2739118396 (Ukraine) (individual) [RUSSIA-EO14024].

Designated pursuant to section 1(a)(i) of E.O. 14024 for operating or having operated in the financial services sector of the Russian Federation economy.

4. KRASNOV, Nikita Vladimirovich (a.k.a. “ACESCOM”), Berezovoy Roshchi Proezd, 10, AP. 144, Moscow 125252, Russia; DOB 13 Jan 1996; POB Moscow, Russia; nationality Russia; Gender Male; Secondary sanctions risk: See Section 11 of Executive Order 14024.; Passport 710280633 (Russia) expires 09 Apr 2020 (individual) [RUSSIA-EO14024].

Designated pursuant to section 1(a)(vi)(B) of E.O. 14024 for having materially assisted, sponsored, or provided financial, material, or technological support for, or goods or services to or in support of Ekaterina Valeryevna ZHDANOVA, a person whose property and interests are blocked pursuant to E.O. 14024.

5. MAGOMEDOV, Khadzhi Murat Dalgatovich (a.k.a. MAGOMEDOV, Murat), Maliy Kakovinskiy Pereulok, Moscow 121099, Russia; DOB 02 Aug 1988; POB Republic of Dagestan, Russia; nationality Russia; Gender Male; Digital Currency Address—ETH 0x1999ef52700c34de7ec2b68a28aafb37db0c5ade; Secondary sanctions risk: See Section 11 of Executive Order 14024.; Passport 762324796 (Russia) expires 24 Jan 2030; alt. Passport 761402005 (Russia) expires 20 Aug 2029; alt. Passport 765180824 (Russia) expires 05 Aug 2031; National ID No. 4512894535 (Russia) (individual) [RUSSIA-EO14024].

Designated pursuant to section 1(a)(vi)(B) of E.O. 14024 for having materially assisted, sponsored, or provided financial, material, or technological support for, or goods or services to or in support of Ekaterina Valeryevna ZHDANOVA, a person whose property and interests are blocked pursuant to E.O. 14024.

Entities

1. TGR CORPORATE CONCIERGE LTD (a.k.a. TGR WEALTH SOLUTIONS LTD), 55 Riding House Street, London W1W 7EE, United Kingdom; Secondary sanctions risk: See Section 11 of Executive Order 14024.; Organization Established Date 06 Jan 2015; Organization Type: Other business support service activities n.e.c.; V.A.T. Number GB282512118 (United Kingdom); Company Number 09375989 (United Kingdom) [RUSSIA-EO14024] (Linked To: BRADENS, Andrejs).

Designated pursuant to section 1(a)(vii) of E.O. 14024 for being owned or controlled by, or having acted or purported to act for or on behalf of, directly or indirectly, Andrejs BRADENS, a person whose property and interests are blocked pursuant to E.O. 14024.

2. TGR PARTNERS, 33-34 Alfred Place, London WC1E 7DP, United Kingdom; Moscow, Russia; Kiev, Ukraine; Riga, Latvia; Singapore, Singapore; Istanbul, Turkey; website tgr.partners; Secondary sanctions risk: See Section 11 of Executive Order 14024.; Organization Type: Financial and Insurance Activities [RUSSIA-EO14024].

Designated pursuant to section 1(a)(i) of E.O. 14024 for operating or having operated in the financial services sector of the Russian Federation economy.

3. PULLMAN GLOBAL SOLUTIONS LLC, Sheridan, WY, United States; website www.pullman.solutions; Secondary sanctions risk: See Section 11 of Executive Order 14024.; Organization Established Date 30 Oct 2017; Organization Type: Other information technology and computer service activities; Registration Number 2017-000774453 (United States) [RUSSIA-EO14024] (Linked To: BRADENS, Andrejs).

Identified pursuant to section 1(a)(i) of E.O. 14024 as being owned in aggregate, directly or indirectly, 50 percent or more by Andrejs BRADENS, a person whose property and interests in property are blocked pursuant to E.O. 14024.

4. SIAM EXPERT TRADING COMPANY LIMITED, 305 Soi Rama Ii Soi 38, Chom Thong, Bangkok, Thailand; Secondary sanctions risk: See Section 11 of Executive Order 14024.; Organization Established Date 20 Jun 2022; Registration Number 0105565099233 (Thailand) [RUSSIA-EO14024].

Designated pursuant to section 1(a)(i) of E.O. 14024 for operating or having operated in the technology sector of the Russian Federation economy.

5. TGR DWC-LLC, Dubai, United Arab Emirates; Secondary sanctions risk: See Section 11 of Executive Order 14024.; Organization Established Date 28 Apr 2019; Organization Type: Management consultancy activities; Registration Number 9052 (United Arab Emirates) [RUSSIA-EO14024] (Linked To: CHIRKINYAN, Elena).

Designated pursuant to section 1(a)(vii) of E.O. 14024 for being owned or controlled by, or having acted or purported to act for or on behalf of, directly or indirectly, Elena CHIRKINYAN, a person whose property and interests are blocked pursuant to E.O. 14024.

Lisa M. Palluconi,
Acting Director, Office of Foreign Assets Control.

[FR Doc. 2024-29370 Filed 12-12-24; 8:45 am]

BILLING CODE 4810-AL-P